DEPARTMENT OF AGRICULTURE

Animal and Plant Health Inspection Service

9 CFR Parts 1, 2, and 3

[Docket No. APHIS-2020-0068]

RIN 0579-AE61

Standards for Birds Not Bred for Use in Research Under the Animal Welfare Act

AGENCY: Animal and Plant Health Inspection Service, Agriculture (USDA).

ACTION: Proposed rule; extension of comment period.

SUMMARY: We are extending the comment period for our proposed rule that would revise the regulations to establish standards governing the humane handling, care, treatment, and transportation of birds, excluding birds bred for use in research, covered under the Animal Welfare Act. This action will allow interested persons additional time to prepare and submit comments.

DATES: The comment period for the proposed rule published on February 22, 2022 (87 FR 9880-9913) is extended. We will consider all comments that we receive on or before May 25, 2022.

ADDRESSES: You may submit comments by either of the following methods:

• Federal eRulemaking Portal: Go to www.regulations.gov. Enter APHIS-2020-0068 in the Search field. Select the Documents tab, then select the Comment button in the list of documents.

• Postal Mail/Commercial Delivery: Send your comment to Docket No. APHIS-2020-0068, Regulatory Analysis and Development, PPD, APHIS, Station 3A-03.8, 4700 River Road, Unit 118, Riverdale, MD 20737-1238.

Supporting documents and any comments we receive on this docket may be viewed at Regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Cody M. Yager, DVM, Supervisory Animal Care Specialist, Animal Care, APHIS, 4700 River Road, Unit 84, Riverdale, MD 20737; (970) 494-7478; cody.m.yager@usda.gov. Secondary Contact: Dr. David Miller, DVM, Ph.D., National Animal Welfare Specialist, Animal Care, APHIS, 2150 Centre Ave., Building B, Mailstop 3W11, Fort Collins, CO 80526; (970) 494-7478; david.s.miller@usda.gov.

SUPPLEMENTARY INFORMATION: On February 22, 2022, we published in the Federal Register (87 FR 9880-9913, Docket No. APHIS-2020-0068) a proposal ¹ to revise the animal welfare regulations by establishing standards governing the humane handling, care, treatment, and transportation of birds, excluding birds bred for use in research, covered under the Animal Welfare Act.

¹ To view the proposal, supporting documents, and public comments, go to www.regulations.gov. Enter APHIS-2020-0068 in the Search field.

Comments on the proposed rule were required to be received on or before April 25, 2022. We are extending the comment period on Docket No. APHIS-2020-0068 for an additional 30 days. This action will allow interested persons additional time to prepare and submit comments.

Authority: 7 U.S.C. 2131-2159; 7 CFR 2.22, 2.80, and 371.7.

Done in Washington, DC, this 15th day of April 2022.
Anthony Shea,
Administrator, Animal and Plant Health Inspection Service.

[FR Doc. 2022-08642 Filed 4-21-22; 8:45 am]

BILLING CODE 3410-34-P